DEPARTMENT OF THE TREASURY

Internal Revenue Service

Open Meeting of the Area 6 Taxpayer Advocacy Panel (Including the States of Alaska, Arizona, Colorado, Hawaii, Idaho, Montana, Nevada, New Mexico, Oregon, Utah, Washington, and Wyoming)

AGENCY: Internal Revenue Service (IRS), Treasury.

ACTION: Notice.

SUMMARY: An open meeting of the Area 6 Committee of the Taxpayer Advocacy Panel will be conducted in Seattle, Washington.

DATES: The meeting will be held Thursday, May 29, 2003, and Friday, May 30, 2003.

FOR FURTHER INFORMATION CONTACT: Anne Gruber at 1-888-912-1227, or 206-220-6096.

SUPPLEMENTARY INFORMATION: Notice is hereby given pursuant to section 10(a)(2) of the Federal Advisory Committee Act, 5 U.S.C. App. (1988) that an open meeting of the Area 6 Committee of the Taxpayer Advocacy Panel will be held Thursday, May 29, 2003, from 12:30 p.m. PDT to 4:30 p.m. PDT and Friday, May 30, 2003, from 8:30 a.m. PDT to 4:30 p.m. PDT. Both meetings will be held in the south auditorium of the Jackson Federal Building, 915 2nd Ave, Seattle, WA. The public is invited to make oral comments on Friday, May 30 from 9 a.m. PDT to 12 noon PDT. Individual comments will be limited to 5 minutes. If you would like to have the TAP consider an oral or written statement, please call 1-888-912-1227 or 206-220-6096, or write Anne Gruber, TAP Office, 915 2nd Ave, M/S W406, Seattle, WA 98174. Due to limited time and space, notification of intent to participate in the public forum part of the meeting must be made with Anne Gruber. Ms. Gruber can be reached at 1-888-912-1227 or 206-220-6096.

The agenda will include the following: Various IRS issues.

Note: Last minute changes to the agenda are possible and could prevent effective advance notice.

Dated: April 29, 2003.
Deryle J. Temple,
Director, Taxpayer Advocacy Panel.

[FR Doc. 03-11213 Filed 5-5-03; 8:45 am]

BILLING CODE 4830-01-P